OFFICE OF PERSONNEL MANAGEMENT

Submission for Review: 3206-0121, Application for Deferred Retirement (for Persons Separated On or After October 1, 1956), OPM 1496A

AGENCY: Office of Personnel Management.

ACTION: 30-Day notice and request for comments.

SUMMARY: Retirement Services, Office of Personnel Management (OPM) offers the general public and other federal agencies the opportunity to comment on a revised information collection request (ICR) with minor edits, Application for Deferred Retirement (for persons separated on or after October 1, 1956), OPM 1496A. The revisions include (1) Revised instructions for hearing impaired users to utilize the Federal Relay Service by dialing 711 or their local communications provider to reach a Communications Assistant (2) Included instructions to attach Internal Revenue Service (IRS) Form W-4P (version 2022 or later). (3) Updated Retirement Information Office hours of operation.

DATES: Comments are encouraged and will be accepted until June 2, 2023.

ADDRESSES: Written comments and recommendations for the proposed information collection should be sent within 30 days of publication of this notice to http://www.reginfo.gov/public/do/PRAMain. Find this particular information collection by selecting “Currently under Review—Open for Public Comments” or by using the search function or fax to (202) 395-6974.

FOR FURTHER INFORMATION CONTACT: A copy of this information collection, with applicable supporting documentation, may be obtained by contacting the Retirement Services Publications Team, Office of Personnel Management, 1900 E Street NW, Room 3316-L, Washington, DC 20415, Attention: Cyrus S. Benson, or sent via electronic mail to Cyrus.Benson@opm.gov or faxed to (202) 606-0910 or via telephone at (202) 936-0401.

SUPPLEMENTARY INFORMATION: As required by the Paperwork Reduction Act of 1995 OPM is soliciting comments for this collection. The information collection (OMB No. 3206-0121) was previously published in the Federal Register on February 6, 2023 at 88 FR 7766, allowing for a 60-day public comment period. No comments were received.

The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

OPM Form 1496A is used by eligible former Federal employees to apply for a deferred Civil Service annuity.

Analysis

Agency: Retirement Operations, Retirement Services, Office of Personnel Management.

Title: Application for Deferred Retirement (for Persons Separated on or After October 1, 1956).

OMB Number: 3206-0121.

Frequency: On occasion.

Affected Public: Individuals or Households.

Number of Respondents: 2,800.

Estimated Time per Respondent: 1 hour.

Total Burden Hours: 2,800 hours.

Office of Personnel Management.
Stephen Hickman,
Federal Register Liaison.

[FR Doc. 2023-09338 Filed 5-2-23; 8:45 am]

BILLING CODE 6325-38-P